FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping and Disclosure Requirements Associated with Regulation II (FR II; OMB No. 7100-0349).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR II.

Final Approval Under OMB Delegated Authority of the Extension for Three Years, Without Revision, of the Following Information Collection

Collection title: Recordkeeping and Disclosure Requirements Associated with Regulation II.

Collection identifier: FR II.

OMB control number: 7100-0349.

General description of collection: The FR II requires both recordkeeping and disclosure requirements. Certain debit card issuers are required to develop and implement, and at least annually review and update, certain fraud-prevention policies and procedures to be eligible to receive the fraud-prevention adjustment. In addition, the rule requires such a debit card issuer to annually notify its payment card networks that it is eligible to receive the fraud-prevention adjustment, and to notify its payment card networks when it is no longer eligible to receive the fraud-prevention adjustment. Finally, Regulation II requires all debit card issuers and, in some situations, payment card networks to retain evidence of compliance with the requirements in Regulation II for a prescribed period of time.

Frequency: Annual; Event-generated.

Respondents: Debit card issuers and payment card networks.

Total estimated number of respondents: 534.

Total estimated annual burden hours: 22,251.

Current actions: On January 13, 2025, the Board published a notice in the Federal Register (90 FR 2700) requesting public comment for 60 days on the extension, without revision, of the FR II. The comment period for this notice expired on March 14, 2025. The Board received one comment. The comment was in support of the extension of the FII as proposed.

Board of Governors of the Federal Reserve System, April 23, 2025.
Benjamin W. McDonough,
Deputy Secretary and Ombuds of the Board.

[FR Doc. 2025-07267 Filed 4-25-25; 8:45 am]

BILLING CODE 6210-01-P